DEPARTMENT OF AGRICULTURE

Rural Utilities Service

[Docket No: RUS-22-ELECTRIC-0030]

Notice of Request for Extension of a Currently Approved Information Collection; Comments Requested

AGENCY: Rural Utilities Service, USDA.

ACTION: Proposed collection; request for comments.

SUMMARY: In accordance with the Paperwork Reduction Act of 1995, the United States Department of Agriculture's (USDA) Rural Utilities Service (RUS) invites comments on this information collection for which the Agency intends to request approval from the Office of Management and Budget (OMB).

DATES: Comments on this notice must be received by August 1, 2022.

FOR FURTHER INFORMATION CONTACT: Lynn Gilbert, Regulatory Management Division, USDA Rural Development, 1400 Independence Ave. SW, Washington, DC 20250-1522. Email: lynn.gilbert@usda.gov Telephone: (202) 690-2682.

SUPPLEMENTARY INFORMATION: The Office of Management and Budget's (OMB) regulation (5 CFR part 1320) implementing provisions of the Paperwork Reduction Act of 1995 (Pub. L. 104-13) requires that interested members of the public and affected agencies have an opportunity to comment on information collection and recordkeeping activities (see 5 CFR 1320.8(d)). This notice identifies an information collection that RUS is submitting to OMB as a extension to an existing collection. Comments are invited on: (a) Whether the proposed collection of information is necessary for the proper performance of the functions of the Agency, including whether the information will have practical utility; (b) the accuracy of the Agency's estimate of the burden of the proposed collection of information including the validity of the methodology and assumptions used; (c) ways to enhance the quality, utility and clarity of the information to be collected; and (d) ways to minimize the burden of the collection of information on those who are to respond, including through the use of appropriate automated, electronic, mechanical, or other technological collection techniques or other forms of information technology.

Comments May Be Sent by the Federal eRulemaking Portal: Go to https://www.regulations.gov and, in the “Search” box, type in the Docket No. RUS-22-ELECTRIC-0030. A link to the Notice will appear. You may submit a comment here by selecting the “Comment” button or you can access the “Docket” tab, select the “Notice,” and go to the “Browse & Comment on Documents” Tab. Here you may view comments that have been submitted as well as submit a comment. Information on using Regulations.gov, including instructions for accessing documents, submitting comments, and viewing the docket after the close of the comment period, is available through the site's “FAQ” link at the bottom. Comments on this information collection must be received by August 1, 2022.

Title: 7 CFR Part 1728, Electric Standards and Specifications for Materials and Construction.

OMB Control Number: 0572-0131.

Type of Request: Extension of a currently approved collection.

Abstract: RUS provides loans and loan guarantees in accordance with the Rural Electrification Act of 1936, 7 U.S.C. 901 et seq., as amended, (RE Act). Section 4 of the RE Act requires that the Agency make or guarantee a loan only if there is reasonable assurance that the loan, together with all outstanding loans and obligations of the Borrower, will be repaid in full within the time agreed. In order to facilitate the programmatic interests of the RE Act and, in order to assure that loans made or guaranteed by the Agency are adequately secure, RUS, as a secured lender, has established certain standards and specifications for materials, equipment, and the construction of electric systems. The use of standards and specifications for materials, equipment and construction units helps assure the Agency that: (1) Appropriate standards and specifications are maintained; (2) RUS loan security is not adversely affected, and; (3) Loan and loan guarantee funds are used effectively and for the intended purposes. The regulation, 7 CFR part 1728, establishes Agency policy that materials and equipment purchased by RUS Electric Borrowers or accepted as contractor-furnished material must conform to Agency standards and specifications where established and, if included in RUS Publication IP 202-1, “List of Materials Acceptable for Use on Systems of Agency Electrification Borrowers” (List of Materials), must be selected from that list or must have received technical acceptance from RUS.

Estimate of Burden: This collection of information is estimated to average 20 hours per response.

Respondents: Business or other for-profits.

Estimated Number of Respondents: 38.

Estimated Number of Responses per Respondent: 2.63.

Estimated Total Annual Burden on Respondents: 2,000 hours.

Copies of this information collection can be obtained from Lynn Gilbert, Regulatory Management Division, at (202) 690-2682.

All responses to this notice will be summarized and included in the request for OMB approval. All comments will also become a matter of public record.

Christopher A. McLean,
Acting Administrator, Rural Utilities Service.

[FR Doc. 2022-11767 Filed 5-31-22; 8:45 am]

BILLING CODE 3410-15-P